DEPARTMENT OF ENERGY

Federal Energy Regulatory Commission

[Project No. 2696-000]

Town of Stuyvesant, NY, Albany Engineering Corporation; Notice Establishing Revised Schedule for Filing License Application

January 17, 2007.

On August 2, 2005, the Commission issued a Notice of Intent to File an Application for a New License for the Stuyvesant Falls Hydroelectric Project.¹ The notice established January 31, 2007, as the date for filing the new license application and competing applications. On December 19, 2006, the Town of Stuyvesant and Albany Engineering Corporation, co-licensees for the project, requested an extension of time until January 31, 2009, to file an application. The licensees state that they have been unable to acquire the property rights necessary to access the project site, which they are pursuing in eminent domain proceedings. Thus, they have been unable to complete studies needed to prepare an adequate application. The licensees estimate that inspection and repairs will take between 12 and 18 months to complete after ownership of the project property is conveyed. Approximately one year is reportedly needed to conduct the studies. At least one of the studies, the Instream Flow Incremental Methodology study, requires the project to be in operating condition to be conducted. By letter filed October 26, 2006, the U.S. Fish and Wildlife Service supports extending the deadline.

¹ Pursuant to special legislation (sections 315(b) and (d) of Pub. L. 108-137), the project's original license, which had been surrendered, was reinstated and transferred to Stuyvesant Falls Hydro Corporation and the Town of Stuyvesant Falls, New York, on December 30, 2003. 105 FERC ¶ 62,231 (2003). On December 20, 2006, the Commission approved the transfer of the license to the Town of Stuyvesant Falls and Albany Engineering Corporation. 117 FERC ¶ 62,254 (2006). Noting that the original license had been surrendered prior to the statutory deadline for filing notices of intent to relicense the project, and would be reinstated after the statutory deadline for filing relicensing applications, the order reinstating the license stated that the Commission would issue a special relicensing schedule, which was set forth in the August 2, 2005 notice.

While the basis for licensees' request for additional time to file their relicensing application appears reasonable, their requested two-year extension of the filing deadline may not ultimately be required and therefore may unduly delay the relicensing proceeding. Therefore, a one-year extension of the deadline for filing applications (to January 31, 2008) is granted. In order to keep the Commission apprised of the licensees' progress the licensees must file quarterly progress reports on steps taken to successfully complete the eminent domain proceeding, conduct necessary studies, and file a licensee application (a report is due three-months following the issuance of this notice and every three months thereafter until the licensee's application is filed).

Magalie R. Salas,
Secretary.

[FR Doc. E7-1136 Filed 1-25-07; 8:45 am]

BILLING CODE 6717-01-P